DEPARTMENT OF DEFENSE

Office of the Secretary

TRICARE; Civilian Health and Medical Program of the Uniformed Services (CHAMPUS); Fiscal Year 2007 Diagnosis Related Group (DRF) Updates

AGENCY: Office of the Secretary, DoD.

ACTION: Notice of DRG revised rates.

SUMMARY: On October 12, 2006 the Department of Defense published a notice on Fiscal Year 2007 Diagnosis Related Group (DRF) Updates. This notice corrects an error for TRICARE DRG base payment rate.

FOR FURTHER INFORMATION CONTACT: Ann N. Fazzini, Medical Benefits and Reimbursement Systems (TMA), telephone 303-676-3803.

Correction

In Federal Register at 71 FR 60112, the heading of the notice, DRF is corrected to read DRG.

At 71 FR 60113, paragraph E, $22.639 is corrected to read $22,649. All other information remains unchanged.

Dated: October 13, 2006.
L.M. Bynum,
Alternate OSD Federal Register Liaison Officer, DoD.

[FR Doc. 06-8767 Filed 10-18-06; 8:45 am]

BILLING CODE 5001-06-M